DEPARTMENT OF STATE

[Public Notice 8316]

30-Day Notice of Proposed Information Collection: Evacuee Manifest and Promissory Note

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to June 10, 2013.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Derek A. Rivers, Bureau of Consular Affairs, Overseas Citizens Services (CA/OCS/L), U.S. Department of State, SA-29, 4th Floor, Washington, DC 20520 or at CA-OCS-L@state.gov.

SUPPLEMENTARY INFORMATION:

• Title of Information Collection: Evacuee Manifest and Promissory Note.

• OMB Control Number: 1405-XXXX.

• Type of Request: New.

• Originating Office: Bureau of Consular Affairs, Overseas Citizens Services (CA/OCS).

• Form Number: DS-5528.

• Respondents: U.S. citizens applying for emergency loan assistance during an evacuation.

• Estimated Number of Respondents: 790.

• Estimated Number of Responses: 790.

• Average Hours Per Response: 20 minutes.

• Total Estimated Burden: 263 hours.

• Frequency: On Occasion.

• Obligation to Respond: Required to Obtain Benefits.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The purpose of the DS-5528 is to document the evacuation of persons from abroad when their lives are endangered by war, civil unrest, or natural disaster, document issuance of a crisis evacuation loan, to obtain a Privacy Act waiver to share information about the welfare of a citizen or lawful permanent resident with authorized, designated persons, and to facilitate debt collection. 22 U.S.C. 4802(b) is one of the primary statutes that make the use of the DS-5528 legal.

Methodology

An electronic version of the Evacuee Manifest and Promissory Note will be created to allow applicants to submit their loan requests to the Bureau of Consular Affairs and our embassies and consulates abroad. Once the applicant has entered the information and submitted the form, the information will be made available to consular officers via the Department of State network and systems for further processing.

Dated: April 10, 2013.
Michelle Bernier-Toth,
Managing Director, Bureau of Consular Affairs, Overseas Citizen Services, Department of State.

[FR Doc. 2013-11178 Filed 5-9-13; 8:45 am]

BILLING CODE 4710-06-P